TENNESSEE VALLEY AUTHORITY

Sunshine Act Meeting

Agency Holding the Meeting: Tennessee Valley Authority (Meeting No. 1528)

Time and Date: 9 a.m. (CST), March 28, 2001

Place: TVA Environmental Research Auditorium Muscle Shoals, Alabama

Status: Open

Agenda

Approval of minutes of meeting held on March 5, 2001.

New Business

B—Purchase Award

B1. Contract with McDaniel Fire Systems to design, fabricate, deliver and install specialty fire protection equipment at any TVA location.

C—Energy

C1. Term coal contract with Coastal Coal Company, LLC, for coal supply to John Sevier Fossil Plant.

C2. Contract with Union County Coal Company, Inc., for coal supply to Johnsonville Fossil Plant for two years.

C3. Delegation of authority to the Chief Operating Officer, or a designee, to enter into an Interagency Agreement with the Department of Energy for TVA to use low enriched uranium derived from surplus highly enriched uranium in TVA's reactors and delegation of authority to the Senior Vice president of Procurement, or a designee, to award separate contracts to Framatome Cogema Fuels and Siemens Power Corporation for uranium processing and nuclear fuel fabrication services.

E—Real Property Transactions

E1. Grant of a permanent easement to Shoals Chamber of Commerce, Inc., for office space purposes, affecting approximately 2.5 acres of land on Wilson Dam Reservation in Lauderdale County, Alabama, Tract No. XTWDRT-6E.

E2. Amendment to Watts Bar Reservoir Land Management Plan to change approximately 0.76 acre of Tract No. XWBR-133PT in Roane County, Tennessee, form forest management, historic preservation, and wildlife management to commercial recreation.

E3. Sale of a permanent easement and temporary construction easement to the city of Murfreesboro, Tennessee, affecting 0.03 acre and 0.11 acre, respectively, of the Murfreesboro Power Service property, for a road improvement project in Rutherford County, Tennessee, Tract No. XMBSC-2H.

E4. Approval of the Bear Creek Reservoirs Land Management Plan, consisting of Little Bear, Cedar Creek, Upper Bear and Bear Creek Reservoirs in Franklin, Marion, and Winston Counties, Alabama.

F—Other

F1. Approval to file condemnation cases to acquire easements and rights-of-way for transmission lines, to survey land for transmission lines, and to acquire property for a power substation. The affected tracts are the Guntersville Dam-Cullman Loop into East Point in Cullman County, Alabama; Clarksville-Hopkinsville Tap to Superior Graphite in Christian County, Kentucky; Sturgis-Europa Tap to Maben, Mississippi, in Choctaw County, Mississippi; and the East Calvert Kentucky Substation in Marshall County, Kentucky.

Information Items

1. Approval for the sale of Tennessee Valley Authority Power Bonds.

2. Modification of three contracts—Nos. P95P07-148381, P91P08-116119, and P98P01-238224—with AEI Resources, Inc., and its subsidiary for coal supply to Kingston, Widows Creek, Shawnee, Johnsonville, and Colbert Fossil Plants.

3. Amendments to the Rules and Regulations of the TVA Retirement System and to the Provisions of the TVA Savings and Deferral Retirement Plan (401(k) Plan).

4. Appointment of Greer Tidwell, Jr., to and designation of Bruce D. Shupp as chairperson of the Regional Resource Stewardship Council.

5. Appointment of Ralph E. Rodgers as TVA's Designated Agency Ethics Official.

6. Approval of TVA's Winning Performance Team Incentive Plan, FY 2001.

7. Approval of the 2001 edition of the Transmission Service Guidelines, providing open access transmissions service and rates for transmission service and ancillary services.

FOR MORE INFORMATION CONTACT: Please call TVA Media Relations at (865) 632-6000, Knoxville, Tennessee. Information is also available at TVA's Washington Office (202) 898-2999. People who plan to attend the meeting and have special needs should call (865) 632-6000.

Dated: March 21, 2001.
Charles L. Young,
Assistant General Counsel and Assistant Secretary.

[FR Doc. 01-7566 Filed 3-22-01; 4:08 pm]

BILLING CODE 8120-08-M